DEPARTMENT OF COMMERCE

National Oceanic and Atmospheric Administration

[RTID 0648-XC053]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Tuesday, June 21 through Thursday, June 23, 2022 at 8 a.m.-5:15 p.m., EDT, and Friday, June 24, 2022 at 8 a.m.-4:30 p.m., EDT.

ADDRESSES:

Meeting address: The meeting will take place at the Crowne Plaza at Bell Tower Shops, located at 13051 Bell Tower Drive, Fort Myers, FL 33907.

Please note, in-person meeting attendees will be expected to follow any current COVID-19 safety protocols as determined by the Council, hotel and the City of Ft. Myers, if any. Such precautions may include masks, room capacity restrictions, and/or social distancing. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Tuesday, June 21, 2022; 8 a.m.-5:15 p.m., EDT

The meeting will begin with the Habitat Protection and Restoration Committee reviewing and discussing the Essential Fish Habitat Generic Amendment, results of the Aquaculture Opportunity Area Atlas of the Gulf of Mexico, and Notice of Intent to Prepare a Programmatic Environmental Impact Statement for Aquaculture Opportunity Areas in the Gulf of Mexico. The committee will receive updates on Ocean Era and Manna Fish Farms Projects in the Gulf of Mexico and American the Beautiful 30 x 30 Council Coordination Committee (CCC) Area-based Management Sub-committee update.

The Coral Committee will review the results from the Coral RFP: Gulf of Mexico Mesophotic and Deepwater Coral Assessment; and, discuss the Joint Coral Advisory Panel (AP) and Coral Scientific and Statistical Committees (SSC) Recommendations and Proposed Next Steps.

The Mackerel Committee will review and discuss Coastal Migratory Pelagics Landings, Final Action Item: Framework Amendment 11: Modifications to the Gulf of Mexico Migratory Group King Mackerel Catch Limits, Research Set Aside Presentations on Efforts from the Mid-Atlantic and New England Councils, and Draft Amendment 33: Modifications to the Gulf Migratory Group King Mackerel Sector Allocation.

The Shrimp Committee will receive an update on National Marine Fisheries Service (NMFS) Pilot Testing of Cellular Electronic Logbook (ELB) Units on Gulf Shrimp Vessels, Shrimp Commercial Logbook Reporting Concepts and Improvements, updated Draft Framework Action: Modification of the Vessel Position Data Collection Program for the Gulf of Mexico Shrimp Fishery; and SSC Recommendations.

At approximately 5 p.m. until 5:15 p.m., the Council will convene the Full Council in a Closed Session to finalize the selection of Coral, Data Collection, and Spiny Lobster Advisory Panel Members.

Wednesday, June 22, 2022; 8 a.m.-5:15 p.m., EDT

The Reef Fish Committee will convene to review Reef Fish Landings and Individual Fishing Quota (IFQ) Landings and Status of Revised Recreational Red Snapper Calibration Ratios. The committee will review Draft Options Amendment 54: Modifications to the Greater Amberjack Catch Limits and Sector Allocations, and other Rebuilding Plan Modifications, Draft Emergency Rule to Modify Recreational and Commercial Greater Amberjack Fishing Seasons, and Draft Options: Modification of Catch Limits for Gulf of Mexico Red Snapper. Following lunch, the committee will receive a presentation and hold a discussion on the Gulf of Mexico Gag Grouper Interim Rule, receive an Update on Efforts of the IFQ Focus Group, review of Southeast Fisheries Science Center (SEFSC) Analysis of Historical Red Grouper Stock Assessments using Alternative Marine Recreational Information Program Landings Data, discuss Goliath Grouper Closure and Federal Catch Limits, and receive a presentation on Return 'Em Right.

The SEDAR Committee will receive a summary report from the May 9, 2022 SEDAR Steering Committee Meeting.

Thursday, June 23, 2022; 8 a.m.-5:15 p.m., EDT

The Data Collection Committee will review Draft Framework Action: Modification to Location Reporting Requirements for For-Hire Vessels, receive update on Southeast For-Hire Integrated Electronic Reporting (SEFHIER) Program, receive presentation on Framework Action to Modify For-Hire Trip Declaration Requirements, review Draft Options Joint Amendment to Require Electronic Reporting for Commercial Logbooks, and receive an overview and demonstration of new SERO-Permits system.

Approximately 11:30 a.m., EDT, the Council will reconvene with a Call to Order, Announcements and Introductions, Presentation of the 2021 Law Enforcement Team of the Year Award, and Adoption of Agenda and Approval of Minutes. The Council will receive presentations on NOAA Fisheries' Equity and Environmental Justice Strategy; update on CCC informal-working group: Equity and Environmental Justice in Fisheries Management, Update from Bureau of Ocean Energy Management (BOEM) on Wind Energy Development in the Gulf of Mexico, and ICCAT Presentation.

The Council will hold public testimony from 2:45 p.m. to 5:15 p.m., EDT on Final Action Items Framework Action: Modification to Location Reporting Requirements for For-Hire Vessels, Final Draft Framework Amendment 11: Modifications to the Gulf of Mexico Migratory Group King Mackerel Catch Limits; comments on the Aquaculture Opportunity Areas in the Gulf of Mexico Notice of Intent; and open testimony on other fishery issues or concerns. Public comment may begin earlier than 2:45 p.m. EDT, but will not conclude before that time. Persons wishing to give public testimony in-person must register at the registration kiosk in the meeting room. Persons wishing to give public testimony virtually must sign up via the link on the Council website. Registration for virtual testimony is open at the start of the meeting, Tuesday, June 21, 2022 at 8 a.m., EDT and closes one hour before public testimony begins on Thursday, June 23, 2022 (1:45 p.m., EDT).

Friday, June 24, 2022; 8 a.m.-4:30 p.m., EDT

The Council will receive Committee reports from Coral, Habitat Protection and Restoration, Mackerel, Shrimp, Reef Fish, Data Collection, Gulf SEDAR Management Committees; and, a Closed Session report. The Council will receive updates from the following supporting agencies: South Atlantic Fishery Management Council; Florida Law Enforcement Efforts; NOAA Office of Law Enforcement (OLE); Gulf States Marine Fisheries Commission; U.S. Coast Guard; U.S. Fish and Wildlife Service; and Department of State.

The Council will discuss any Other Business items.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

(Authority: 16 U.S.C. 1801 et seq.)

Dated: May 18, 2022.
Tracey L. Thompson,
Acting Deputy Director, Office of Sustainable Fisheries, National Marine Fisheries Service.

[FR Doc. 2022-11071 Filed 5-23-22; 8:45 am]

BILLING CODE 3510-22-P